DEPARTMENT OF TRANSPORTATION

Federal Transit Administration

[FTA Docket No. FTA-99-6417]

Request for Comment on the Federal Transit Administration National ITS Architecture Consistency Policy for Project Development

AGENCY: Federal Transit Administration (FTA), DOT.

ACTION: Notice.

SUMMARY: The Federal Transit Administration (FTA) announces a Request for Comment on the proposed FTA National ITS Architecture Consistency Policy for project development, which is defined in this document and in the Statewide Transportation Planning; Metropolitan Transportation Planning Notice of Proposed Rulemaking (NPRM published separately in today's Federal Register). The Metropolitan and Statewide Planning Process, as it relates to ITS projects, is summarized in this notice for clarity. However, comments on the planning process should be directed to Docket No. FHWA-99-5933, docket for the NPRM. Comments on the project development policy, including answers to the questions asked in Section X, should be submitted to this docket. The Major Capital Investments rule, when made final, will also reference the National ITS Architecture Policy. The National ITS Architecture Policy statement is a product of statutory changes made by the Transportation Equity Act for the 21st Century (TEA-21) (P.L. 105-178) enacted on June 9, 1998. This notice proposes to require development of an ITS regional architecture, consisting of a concept of operations and a conceptual design, which draws from the National ITS Architecture but is tailored to address the local situation and ITS investment needs. This notice also proposes to require use of applicable standards and interoperability tests adopted by the United States Department of Transportation (US DOT). The proposal recommends the use of the National ITS Architecture and provisional standards and interoperability tests.

DATES: Comments shall be submitted by August 23, 2000.

ADDRESSES: All signed, written comments must refer to the docket number appearing at the top of this document and must be submitted to the Docket Clerk, U.S. DOT Dockets, Room PL-401, 400 Seventh Street, SW, Washington, DC 20590-0001. All comments received will be available for examination at the above address between 9 a.m. and 5 p.m., e.t., Monday through Friday, except Federal holidays. Those desiring notification of receipt of comments must include a self-addressed, stamped envelope or postcard.

FOR FURTHER INFORMATION CONTACT: For Technical Information: Ron Boenau, Chief, Advanced Public Transportation Systems Division (TRI-11), at (202) 366-0195 or Brian Cronin, Advanced Public Transportation Systems Division (TRI-11), at (202) 366-8841. For Legal Information: Linda Sorkin, Office of the Chief Council (202) 366-1936. The FTA is located at 400 Seventh Street, SW, Washington, DC 20590. This notice is posted on the FTA website on the Internet under http://www.fta.dot/gov.

Electronic Access

Internet users may access all comments received by the U.S. DOT Dockets, Room PL-401, by using the universal resource locator (URL): ­ http://dms.dot.gov. It is available 24 hours each day, 365 days each year. Please follow the instructions online for more information and help.

An electronic copy of this document may be downloaded using a computer, modem and suitable communications software from the Government Printing Office's Electronic Bulletin Board Service at (202) 512-1661. Internet users may reach the Office of the Federal Register's home page at: http://www.nara.gov/fedreg and the Government Printing Office's web page at: http://www.access.gpo.gov/nara.

Contents

I. Definitions

II. Background

III. Statewide and Metropolitan Planning Processes

IV. ITS Regional Architecture

V. ITS Projects

VI. Documentation

VII. Phasing

VIII. Oversight

IX. FTA Guidance

X. Questions

I. Definitions

Intelligent Transportation Systems (ITS), as defined in TEA-21, means electronics, communications, or information processing used singly or in combination to improve the efficiency or safety of a surface transportation system.

ITS Integration Strategy means a systematic plan for coordinating and implementing ITS investments funded with highway trust funds to achieve an integrated regional transportation system.

ITS project means any project that, in whole or in part, funds the acquisition of technologies or systems of technologies (e.g. computer hardware or software, traffic control devices, communications links, electronic fare payment system, passenger information system, and automatic vehicle location system) that provide or contribute to the provision of one or more ITS user services as defined in the ITS National ITS Architecture.

ITS Regional Architecture means a regional framework for ensuring institutional agreement and technical integration of technologies for the implementation of projects or groups of projects under an ITS Integration Strategy.

National ITS Architecture (also “national architecture”) means a common framework for ITS integration and interoperability. The National ITS Architecture comprises the logical architecture and physical architecture that satisfy a defined set of user services. The logical architecture defines the functions and information flows, and guides the development of functional requirements for new systems and improvements. The physical architecture defines how the system should provide the required functionality defined in the logical architecture.

A region is a geographical area that is based on local needs for sharing information and coordinating operational strategies in order to address transportation problems. The size of the region should be chosen to optimize integration of transportation systems by fostering the exchange of information on operating conditions across ITS systems and across a number of agencies and jurisdictions.

II. Background

Section 5206(e) of TEA-21 requires that the Secretary of the DOT must

“Ensure that intelligent transportation system projects carried out using funds made available from the Highway Trust Fund, * * * conform to the national architecture, applicable standards or provisional standards, and protocols developed under subsection(a).”

On October 2, 1998, the DOT issued Interim Guidance on Conformity with the National ITS Architecture and Standards. The Interim Guidance reflects input received from Federal, State, local, and private sector transportation stakeholders in conjunction with the national transportation association forums and 10 outreach sessions held across the Nation in the spring of 1998. The intent of the Interim Guidance is to:

• Foster integration.

• Encourage the incorporation of ITS into the transportation planning process, and

• Focus on near-term ITS projects with the greatest potential for affecting regional integration.

The Interim Guidance is available on the DOT website at www.its.dot.gov, and will remain in effect until the adoption of a final policy. The National ITS Architecture Policy presented in this proposal reflects comments from the transportation industry on the Interim Guidance.

The objectives for the FTA's National ITS Architecture Policy for project development are to:

• Provide requirements for ITS project development for projects implemented wholly or partially with highway trust funds.

• Achieve system integration (e.g. seamless traveler information system that electronically combines traveler information data from multiple transportation agencies in a region) for projects funded through the highway trust fund with all other projects contained in the ITS Integration Strategy.

• Engage stakeholders (state DOT's, transit agencies, public safety agencies, other transportation operating agencies).

• Enable electronic information and data sharing among stakeholders.

• Facilitate future expansion capability of the transportation infrastructure.

• Foster interoperability.

• Save design time through use of the National ITS Architecture.

FTA has developed this proposed policy to meet the TEA-21 requirement contained in Section 5206(e) and the DOT/FTA goal to encourage effective deployment of ITS projects. Additionally, DOT and FTA encourage the coordination of local ITS strategies and projects to help meet national and local goals for mobility, accessibility, safety, security, economic growth and trade, and environment.

The National ITS Architecture documents were developed by the US DOT, and are updated on an as-needed basis. The latest addition to the National ITS Architecture is the Archive Data User Service, which provides the ability to store and process data over an extended period of time. FTA is pursuing the addition of a Rail ITS user service within the National ITS Architecture. New versions of the documents, when they are issued, will be available from the US DOT in hard copy and electronic format on the DOT website at www.its.dot.gov. Version 3.0 is the latest version of the National ITS Architecture.

III. Statewide and Metropolitan Planning Processes

FTA and FHWA have developed an approach for coordinating this policy with requirements for statewide and metropolitan transportation planning processes. The proposed approach, contained in the Statewide Transportation Planning; Metropolitan Transportation Planning NPRM (published elsewhere in today's Federal Register), explains how ITS is proposed to be integrated into the planning process. The Metropolitan and Statewide Planning Process, as it relates to ITS projects, is summarized in this section for clarity. However, comments on the planning process should be directed to Docket Number FHWA-99-5933, docket for the NPRM.

The approach in the NPRM includes the provision that states and MPOs are to develop a locally defined ITS Integration Strategy to guide future investment decisions and foster integration and interoperability [See the following sections: §§ 1410.104, 1410.322(b)(11), 1410.214 (a)(3), and 1410.216(c)(8)]. Included in development of the strategy, at a minimum, are highway, transit, and public safety agencies, appropriate federal lands agencies, state motor carrier agencies as appropriate, and other operating agencies necessary to fully address ITS integration. The Integration Strategy shall assess existing and future ITS systems, functions and electronic information sharing expectations. Unique regional ITS initiatives shall be identified in the Integration Strategy. Under the section for planning agreements [See Section 1410.310(i)], the NPRM also calls for an agreement among the MPO, the state DOT, the transit operator, and other agencies identified in the Integration Strategy. This agreement shall address policy and operational issues, including at a minimum ITS project interoperability, utilization of ITS related standards, and the routine operation of the projects identified in the ITS Integration Strategy.

IV. ITS Regional Architecture

The proposed requirements contained in this section have been developed to facilitate the interoperability of projects funded through the highway trust fund (including the mass transit account) with other projects included in the ITS Integration Strategy. FTA proposes the development of an ITS Regional Architecture for implementing the ITS Integration Strategy per 49 CFR 1410.322(b)(11) and 1410. 214(a)(3) to guide the development of specific projects and programs. The FTA proposes to require that the ITS Regional Architecture conform with the applicable ITS Integration Strategy. This proposal suggests that the National ITS Architecture shall be used as a resource in the development of the ITS Regional Architecture.

The ITS Regional Architecture may be developed either as an initial project development effort and updated as projects are initiated, or the ITS Regional Architecture may be developed incrementally as major ITS investments are initiated and updated with subsequent projects.

Major ITS investments include the following three project categories:

• Unique regional ITS initiatives (a program of related projects) that are multi-jurisdictional and/or multi-modal,

• ITS projects that affect regional integration of ITS systems, and

• Projects which directly support national interoperability.

In either case, it is proposed that provision should be made to include participation from all agencies with which information-sharing is planned as specified in the ITS Integration Strategy.

This proposal recommends that the ITS Regional Architecture include, at a minimum and scalable to the size of the region, the following:

A. A concept of operations addressing: The roles and responsibilities of participating agencies and existing or required agreements for operations and resources required to support the project;

B. A conceptual design sufficient to support subsequent project design regarding system functional requirements; interface requirements and information exchanges with planned and existing systems and subsystems (for example, subsystems and architecture flows as defined in the National ITS Architecture); identification of key standards supporting national interoperability, including uniformity and compatibility of equipment, practices, and procedures to deliver ITS services; and, it must establish a priority of phases or steps required for implementation.

ITS projects that are considered to be major ITS investments are proposed to have an ITS project architecture developed that includes a concept of operations and conceptual design as defined above. The ITS project architecture could then serve as the initial ITS Regional Architecture, or if an ITS Regional Architecture exists, could be used to update the existing ITS Regional Architecture.

V. ITS Projects

This proposal recommends that all projects funded through the highway trust fund (including the mass transit account) shall be consistent with the ITS Integration Strategy, the inter-agency agreement, and the ITS Regional Architecture and shall be coordinated with other ITS projects in the state/region. Additionally, it is proposed that the National ITS Architecture shall be used as a resource for interoperability and integration. This proposal recommends that projects financed by FTA are required to be consistent with DOT requirements for standards and interoperability testing as they are officially adopted by DOT. In the interim, grantees should use applicable standards and testing procedures.

As proposed, the project specifications will be required to ensure that the project accommodates the sharing of electronic information and provides for the functionality and operation (both at the time of project implementation and in the future) between the agencies and jurisdictions as indicated in the ITS Integration Strategy and/or the ITS Regional Architecture.

VI. Documentation

This Notice proposes to require documentation of proposed ITS requirements be included in project documents. Documentation will also be required to include identification of the portions of the ITS Regional Architecture and/or ITS Integration Strategy, which are implemented through the project, and the identification of applicable ITS standards and/or interoperability tests that were considered or specified in the project. Any changes made in project design that impact the ITS Integration Strategy or ITS Regional Architecture are proposed to require to be documented. This Notice proposes that documentation of the rationale and interagency coordination strategies that were carried out to agree upon certain changes will be required to be provided in the event that any changes are made in the implementation of projects contrary to the ITS Integration Strategy or ITS Regional Architecture. In addition, this Notice proposes that the ITS Regional Architecture and/or ITS Integration Strategy be required to be updated to reflect the changes.

VII. Phasing

This proposal suggests the phasing to be as follows:

• Prior to (insert the date two years after date of the final policy publication in the Federal Register) the development of an ITS Regional Architecture and subsequent ITS project architectures will not be required for projects that meet the requirements for Major ITS Investments.

• All ITS projects that involve preliminary engineering, including system engineering, and which advance to final design must conform to the requirements for ITS Projects on or before (insert effective date of final policy).

• In the event that an applicable ITS Integration Strategy or ITS Regional Architecture does not exist, the applicable portions of the National ITS Architecture will be required to be identified and used as the basis for analysis.

• All National ITS Architecture Consistency Policy requirements will be required to apply on (insert date two years after effective date of final policy).

VIII. Oversight

This Notice proposes to require grantees to self-certify that they have met the National ITS Architecture consistency requirements. Existing FTA Oversight procedures will be used to verify self-certifications. FTA has allocated FTA Oversight funds from the fiscal year 1999 oversight budget to be used to provide the initial oversight and technical assistance to grantees regarding this policy.

IX. FTA Guidance

FTA will develop appropriate guidance materials regarding the National ITS Architecture consistency requirements upon completion of the Statewide Transportation Planning; Metropolitan Transportation Planning NPRM process and after the comment period regarding this policy.

X. Questions

In order to facilitate focused comments, FTA is asking the following questions regarding the proposed National ITS Architecture Consistency Policy for Project Development.

1. Do reviewers understand the definition of a major ITS investment as defined in Section IV, “ITS Regional Architecture,” or is more clarification needed, and if so please explain?

2. Do reviewers understand the definition of an ITS project, or is more clarification needed, and if so please explain?

3. Do reviewers understand the difference between a major ITS investment, and an ITS project, or is more clarification needed, and if so please explain?

4. Are the requirements for development of a Regional Architecture clear? If not, what is not clear about the requirement?

5. What additional guidance, if any, is required to explain how to implement this proposed policy?

6. The proposed rule allows regions to develop a Regional Architecture as a separate activity, or incrementally as major ITS investments are developed within a region. Do reviewers anticipate particular difficulties with implementing and documenting either approach?

7. Do reviewers understand the relationships between the Integration Strategy, the ITS Regional Architecture, and the ITS Project Architecture?

8. What additional guidance, if any, is required regarding phasing of this rule?

9. Are the oversight and documentation requirements clear? If not, what is not clear about the requirements?

Issued on: May 18, 2000.
Nuria I. Fernandez,
Acting Administrator.

[FR Doc. 00-12913 Filed 5-19-00; 1:15 pm]

BILLING CODE 4910-57-P